DEPARTMENT OF THE INTERIOR

Bureau of Land Management

[BLM_AK_FRN_MO4500169761; F-020174, F-35871, F-35872]

Notice of Application for Withdrawal Extension; and Public Meeting; Fort Wainwright, AK

AGENCY: Bureau of Land Management, Interior.

ACTION: Notice of withdrawal application.

SUMMARY: The Department of the Army (Army) has filed an application with the Bureau of Land Management (BLM) for the extension of the current withdrawal in the Fairbanks North Star Borough and the Southeast Fairbanks Census Area, Alaska. The Army requested an extension of the existing approximately 869,862-acre withdrawal for the Yukon Training Area (formerly Fort Wainwright Yukon Training Range) and the Donnelly Training Areas East and West (formerly Fort Greely East and West Training Ranges) from all forms of appropriation under the public land laws, including the mining laws and the mineral leasing and geothermal leasing laws, for 25 years or more, subject to valid existing rights. The existing withdrawal will expire on November 6, 2026. The decision about this application will be made by Congress. This notice advises the public of an opportunity to comment on this application for a withdrawal extension and to attend a public meeting.

DATES: Comments regarding this withdrawal application must be received by June 8, 2023. In addition, the BLM and Army will host public meetings addressing the withdrawal application. The date, time, and location information for the public meetings are listed in the SUPPLEMENTARY INFORMATION section.

ADDRESSES: Comments pertaining to this application for withdrawal extension should be sent to the Alaska State Director, BLM Alaska State Office, 222 West Seventh Avenue, No. 13, Anchorage, Alaska 99513-7504 or by email at blm_ak_state_director@blm.gov.

FOR FURTHER INFORMATION CONTACT: Chelsea Kreiner, BLM Alaska State Office, (907) 271-4205, email ckreiner@blm.gov, or you may contact the BLM office at the address above. Individuals in the United States who are deaf, deafblind, hard of hearing, or have a speech disability may dial 711 (TTY, TDD, or Tele Braille) to access telecommunications relay services. Individuals outside the United States should use the relay services offered within their country to make international calls to the point-of-contact in the United States.

SUPPLEMENTARY INFORMATION: The Military Lands Withdrawal Act (MLWA) of 1999 (Pub. L. 106-65) withdrew approximately 869,862 acres of public land comprising Yukon Training Area, Donnelly Training Area East, and Donnelly Training Area West from all forms of appropriation under public land laws and reserved them for use by the Army. The withdrawal will expire on November 6, 2026, unless extended by Congress. The Army has filed an application for extension of the current withdrawal of approximately 869,862 acres of public lands from all forms of appropriation under the public land laws, including the mining laws and the mineral leasing and geothermal leasing laws, for 25 years or more. The purpose of the withdrawal extension is to allow for continued military use of the Yukon Training Area and the Donnelly Training Areas East and West in anticipation of continuing national defense requirements.

The Yukon Training Area covers approximately 246,277 acres and is located approximately 16 miles east-southeast of Fairbanks and immediately east of Eielson Air Force Base. Donnelly Training Areas East and West are located near Fort Greely in the Tanana River valley in central Alaska approximately 80 miles southeast from Fort Wainwright, near the city of Delta Junction in the Southeast Fairbanks Census Area. Donnelly Training Area East is approximately 51,590 acres and Donnelly Training Area West is approximately 571,995 acres. The August 10, 2000, Federal Register publication (65 FR 49012) described the approximately 869,862 acres of public lands withdrawn by the MLWA.

The Engle Act (Pub. L. 85-337, 43 United States Code 155-157) requires land withdrawals for defense purposes of more than 5,000 acres in the aggregate for any one defense project or facility to be authorized by Congress through legislation. The MLWA requires the Army to notify the Secretary of the Interior and Congress whether there is a continuing military need for the withdrawn land. The Army and the Department of the Interior (DOI) intend to submit a legislative proposal for extension of the withdrawal and reservation to Congress not later than May 1, 2025.

As required by section 204(b)(1) of the Federal Land Policy and Management Act of 1976, 43 U.S.C. 1714(b)(1), and the BLM regulations at 43 CFR part 2300, the BLM is publishing the notice of the Army's application. While the BLM and the DOI assist the Army with the processing of withdrawal applications, and the Secretary of the Interior makes a recommendation to Congress on applications for withdrawals of this size for defense purposes, Congress will decide whether to extend the existing withdrawal for the Yukon Training Area and Donnelly Training Areas East and West. This notice invites the public to comment on the application for withdrawal extension and notifies the public that a public meeting will occur.

The Army is preparing a legislative environmental impact statement (EIS) in support of the legislative proposal and published a notice of intent to conduct public scoping under the National Environmental Policy Act (NEPA) in the Federal Register on September 24, 2021 (86 FR 53038). The Army conducted a virtual public scoping meeting on October 13, 2021, and accepted comments on potential alternatives, potential environmental impacts, information, and analyses relevant to the proposed action. The NEPA scoping period ended on October 25, 2021. The BLM is participating as a cooperating agency in the preparation of the legislative EIS, and the draft legislative EIS is anticipated to be published soon. Information on the environmental review process can be viewed at the Army's project website at https://www.aklweleis.com/.

For a period until June 8, 2023, all persons who wish to submit comments in connection with the withdrawal application may present their comments in writing to the Alaska State Director at the address listed in the ADDRESSES section earlier. All comments received will be considered before the Secretary of the Interior makes any recommendation for withdrawal to Congress.

Before including your address, phone number, email address, or other personal identifying information in your comment, you should be aware that your entire comment, including your personal identifying information, may be made publicly available at any time. While you can ask us in your comment to withhold your personal identifying information from public review, we cannot guarantee that we will be able to do so.

In addition, BLM and Army will host public meetings on Monday, April 10, 2023, at 5:00 p.m. at the Westmark Fairbanks Hotel and Conference Center, Yukon Room, 813 Noble Street, Fairbanks, Alaska, and on Tuesday, April 11, 2023, at 5:00 p.m. at the Delta Junction Community Center, 2287 Deborah Street, Delta Junction, Alaska.

The withdrawal extension application will be processed in accordance with MLWA, and to the extent consistent with MWLA, the regulations set forth in 43 CFR 2310.4 and subject to section 810 of the Alaska National Interest Lands Conservation Act, (16 U.S.C. 3120).

(Authority: 43 CFR 2310.4.)

Steven M. Cohn,
Alaska State Director.

[FR Doc. 2023-04988 Filed 3-9-23; 8:45 am]

BILLING CODE 4331-10-P